DEPARTMENT OF THE INTERIOR

Bureau of Safety and Environmental Enforcement (BSEE)

[Docket ID No. BSEE-2011-0005; OMB Control Number 1014-NEW]

Information Collection Activities: Operations in the Outer Continental Shelf for Minerals Other than Oil, Gas, and Sulphur; Submitted for Office of Management and Budget (OMB) Review; Comment Request

ACTION: 60-day Notice.

SUMMARY: To comply with the Paperwork Reduction Act of 1995 (PRA), BSEE is inviting comments on a collection of information that we will submit to the Office of Management and Budget (OMB) for review and approval. The information collection request (ICR) concerns a revision to the paperwork requirements in the regulations under 30 CFR part 282, “Operations in the Outer Continental Shelf for Minerals Other than Oil, Gas, and Sulphur”.

DATES: Submit comments by February 21, 2012.

ADDRESSES: You may submit comments by either of the following methods listed below.

• Electronically: go to http://www.regulations.gov. In the entry titled “Enter Keyword or ID,” enter BSEE-2011-0005 then click search. Follow the instructions to submit public comments and view all related materials. We will post all comments.

• Email: cheryl.blundon@bsee.gov. Mail or hand-carry comments to the Department of the Interior; Bureau of Safety and Environmental Enforcement; Regulations Development Branch; Attention: Cheryl Blundon; 381 Elden Street, MS-4024; Herndon, Virginia 20170-4817. Please reference ICR 1014-NEW in your comment and include your name and return address.

FOR FURTHER INFORMATION CONTACT: Cheryl Blundon, Regulations Development Branch at (703) 787-1607 to request additional information about this ICR.

SUPPLEMENTARY INFORMATION:

Title: 30 CFR part 282, Operations in the Outer Continental Shelf for Minerals other than Oil, Gas, and Sulphur.

OMB Control Number: 1014-NEW.

Abstract: The Outer Continental Shelf (OCS) Lands Act, as amended (43 U.S.C. 1334 and 43 U.S.C. 1337(k)), authorizes the Secretary of the Interior to implement regulations to grant leases of any mineral other than oil, gas, and sulphur to qualified parties. This regulation governs mining operations within the OCS and establishes a comprehensive leasing and regulatory program for such minerals. This regulation has been designed to: (a) Recognize the differences between the OCS activities associated with oil, gas, and sulphur discovery and development and those associated with the discovery and development of other minerals; (b) facilitate participation by States directly affected by OCS mining activities; (c) provide opportunities for consultation and coordination with other OCS users and uses; (d) balance development with environmental protection; (e) insure a fair return to the public; (f) preserve and maintain free enterprise competition; and (g) encourage the development of new technology.

The authorities and responsibilities described above are among those delegated to BSEE. This ICR addresses the regulations at 30 CFR part 282, Operations in the Outer Continental Shelf for Minerals Other than Oil, Gas, and Sulphur. It should be noted that there has been no activity in the OCS for minerals other than oil, gas and sulphur for many years and no information collected. However, because these are regulatory requirements, the potential exists for information to be collected; therefore, we are requesting this collection of information be approved by OMB. To accommodate the split of regulations from the Bureau of Ocean Energy Management, Regulation and Enforcement to BSEE, BSEE is requesting OMB approval of the already approved burden hours that were previously under 1010-0081 to reflect BSEE's new 1014 numbering system.

Regulations at 30 CFR part 282 implement these statutory requirements. We use the information to determine if lessees are complying with the regulations that implement the mining operations program for minerals other than oil, gas, and sulphur. Specifically, BSEE will use the information to: (a) To ensure that operations for the production of minerals other than oil, gas, and sulphur in the OCS are conducted in a manner that will result in orderly resource recovery, development, and the protection of the human, marine, and coastal environments; (b) to ensure that adequate measures will be taken during operations to prevent waste, conserve the natural resources of the OCS, and to protect the environment, human life, and correlative rights; (c) to determine if suspensions of activities are in the national interest, to facilitate proper development of a lease including reasonable time to develop a mine and construct its supporting facilities, or to allow for the construction or negotiation for use of transportation facilities; (d) to identify and evaluate the cause(s) of a hazard(s) generating a suspension, the potential damage from a hazard(s) and the measures available to mitigate the potential for damage; and (e) for technical evaluations that provide a basis for BSEE to make informed decisions to approve, disapprove, or require modification of the proposed activities.

We will protect information from respondents considered proprietary under the Freedom of Information Act (5 U.S.C. 552) and its implementing regulations (43 CFR part 2) and 30 CFR 282.5, 282.6, and 282.7. No items of a sensitive nature are collected. Responses are mandatory.

Frequency: On occasion; and as a result of situations encountered.

Description of Respondents: Potential respondents comprise Federal OCS lessees and/or operators.

Estimated Reporting and Recordkeeping Hour Burden: We estimate that the reporting burden for this collection will be approximately 156 hours. The following chart details the individual components and respective hour burden estimates of this ICR. In calculating the burdens, we assumed that respondents perform certain requirements in the normal course of their activities. We consider these to be usual and customary and took that into account in estimating the burden.

Citation 30 CFR 282 | Reporting or recordkeeping requirement | Hour Burden: Non-Hour Cost Burden
Subpart A—General
5 | Request non-disclosure of G&G info | 10.
6 | Governor(s) of adjacent State(s) request for proprietary data, information, samples, etc., and disclosure agreement with BSEE | 1.
7 | Governor of affected State requests negotiation to settle jurisdictional controversy, etc.; enters into an agreement with BSEE | 1.
Subpart B—Jurisdiction and Responsibilities of Director
11(d)(1); | Request consolidation of two or more OCS mineral leases or portions | 1.
11(d)(1); 12(f)(l), (2); 13(d), (e)(2); | Submit delineation plan, including environmental information, contingency plan, monitoring program, and various requests for approval referred to throughout; submit modifications to plan | 40.
11(d)(1); 12(f)(l), (2); 13(d), (e)(2); | Submit testing delineation plan, including environmental information, contingency plan, monitoring program, and various requests for approval referred to throughout; submit modifications to plan | 40.
11(d)(1); 12(f)(1), (2); 13(d), (e)(2); | Submit mining delineation plan, including environmental information, contingency plan, monitoring program, and various requests for approval referred to throughout; submit modifications to plan | 40.
11(d)(4) | State requests different method of allocating production | 1.
12(f)(1), (h); | Request approval of operations or departure from operating requirements [burden included with applicable operation] | 0.
13(b), (f)(2); 31 | Request suspension or temporary prohibition or production or operations | 2.
13(e) | Submit site-specific study plan and results | 8
|  | $100,000 per study.
14 | Submit “green” response copy of Form BSEE-1832 indicating date violations (INCs) corrected. | 2.
Subpart C—Obligations and Responsibilities of Lessees
27(b) | Request use of new or alternative technologies, techniques, etc | 1.
27(c) | Notify BSEE of death or serious injury; fire, explosion, or other hazardous event; submit report | 1.
27(d)(2) | Request reimbursement for furnishing food, quarters, and transportation for BSEE representatives (no requests received in many years; minimal burden) | 2.
27(e) | Identify vessels, platforms, structures, etc., with signs | 1.
27(f)(2) | Log all drill holes susceptible to logging; submit copies of logs to BSEE | 3.
27(h)(3), (4) | Mark equipment; record items lost overboard; notify BSEE | 1.
28(d) | Demonstrate effectiveness procedure(s) for mitigating environmental impacts | 1.
28(k) | Enter weight, quality, and/or quantity of each mineral produced [burden covered under 1010-0081] | 0.
Subpart E—Appeals
50 | File an appeal [burden exempt under 5 CFR 1320.4(a)(2), (c)]. | 0.

Estimated Reporting and Recordkeeping Non-Hour Cost Burden: We have identified one non-hour cost burden associated with § 282.13(e)(1), a site specific study. Since this has not been done to date, we estimated that the study would cost industry approximately $100,000 to comply with the requirement. We have not identified any other non-hour paperwork cost burdens associated with this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Dated: December 15, 2011.
Douglas W. Morris,
Chief, Office of Offshore Regulatory Programs.

[FR Doc. 2011-32862 Filed 12-21-11; 8:45 am]

BILLING CODE 4310-MR-P